ENVIRONMENTAL PROTECTION AGENCY

40 CFR Part 50

[EPA-HQ-OAR-2007-1145; FRL-9449-1]

RIN 2060-AO72

Public Hearing for Secondary National Ambient Air Quality Standards for Oxides of Nitrogen and Sulfur

AGENCY: Environmental Protection Agency (EPA).

ACTION: Announcement of public hearing.

SUMMARY: The EPA is announcing a public hearing to be held for the proposed rule titled “Secondary National Ambient Air Quality Standards for Oxides of Nitrogen and Sulfur” which was published in the Federal Register on August 1, 2011. The hearing will be held in Arlington, Virginia on Thursday, August 25, 2011.

DATES: The public hearing will be held on August 25, 2011. Please refer to SUPPLEMENTARY INFORMATION for additional information on the public hearing.

ADDRESSES: Hearing. The hearing will be held at the following location: Potomac Yard Conferencing Center, First Floor Conference Room South, Room S-1204-06), Office of Pesticides Programs, 1 Potomac Yard, 2777 S. Crystal Drive, Arlington, Virginia 22202, phone: 703-347-8930.

Note: All persons entering the Potomac Yard Conferencing Center must have a valid picture ID such as a driver's license and go through federal security procedures. All persons must go through a magnetometer and all personal items must go through x-ray equipment, similar to airport security procedures. After passing through the equipment, all persons must sign in at the guard station and show their picture ID.

Comments. Written comments on this proposed rule may also be submitted to the EPA electronically, by mail, by facsimile, or through hand delivery/courier. Please refer to the notice of proposed rulemaking published in the Federal Register on August 1, 2011, (76 FR 46084) for the addresses and detailed instructions for submitting written comments.

A complete set of documents related to the proposal is available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov.

The EPA Web site for the rulemaking, which includes the proposal and information about the public hearing, can be found at: http://www.epa.gov/ttn/naaqs/standards/no2so2sec/cr_fr.html.

FOR FURTHER INFORMATION CONTACT: If you would like to speak at the public hearing or have questions concerning the public hearing, please contact Mrs. Sherry Russell at the address given below under SUPPLEMENTARY INFORMATION.

Questions concerning the “Secondary National Ambient Air Quality Standards for Oxides of Nitrogen and Sulfur” proposed rule should be addressed to Rich Scheffe, U.S. EPA, Office of Air Quality Planning and Standards, Air Quality Assessment Division, (C304-02), Research Triangle Park, NC 27711, telephone: (919) 541-4650, e-mail: scheffe.rich@epa.gov.

SUPPLEMENTARY INFORMATION: The proposal for which the EPA is holding a public hearing was published in the Federal Register on August 1, 2011, (76 FR 46084) and is available on the following Web site: http://www.epa.gov/ttn/naaqs/standards/no2so2sec/cr_fr.html.

The public hearing will provide interested parties the opportunity to present data, views, or arguments concerning the proposed rule. The EPA may ask clarifying questions during the oral presentations, but will not respond to the presentations at that time. Written statements and supporting information submitted during the comment period will be considered with the same weight as any oral comments and supporting information presented at the public hearing. Written comments must be postmarked by the last day of the comment period, as specified in the proposal.

The public hearing will be held in Arlington, Virginia on August 25, 2011. The public hearing will begin at 10 a.m. and continue until 7 p.m. or later, if necessary, depending on the number of speakers wishing to participate. The EPA will make every effort to accommodate all speakers that arrive and register before 7 p.m. The EPA is scheduling a lunch break from 1 until 2:30 p.m. If you would like to present oral testimony at the hearing, please notify Mrs. Sherry Russell, (C504-02) U.S. Environmental Protection Agency, Research Triangle Park, North Carolina 27711, e-mail (preferred method for registering): russell.sherry@epa.gov; telephone: (919) 541-0306 no later than 5 p.m. on August 23, 2011. She will arrange a general time slot for you to speak. The EPA will make every effort to follow the schedule as closely as possible on the day of the hearing.

Oral testimony will be limited to five (5) minutes for each commenter to address the proposal. We will not be providing equipment for commenters to show overhead slides or make computerized slide presentations unless we receive special requests in advance. Commenters should notify Mrs. Russell if they will need specific audiovisual (AV) equipment. Commenters should also notify Mrs. Russell if they need specific translation services for non-English speaking commenters. The EPA encourages commenters to provide written versions of their oral testimonies either electronically on computer disk or CD-ROM or in paper copy.

The hearing schedule, including lists of speakers, will be posted on EPA's Web site for the proposal at http://www.epa.gov/ttn/naaqs/standards/no2so2sec/cr_fr.html prior to the hearing. A verbatim transcript of the hearing and written statements will be included in the rulemaking docket.

How can I get copies of this document and other related information?

The EPA has established the official public docket for the “Secondary National Ambient Air Quality Standards for Oxides of Nitrogen and Sulfur” under Docket Number EPA-HQ-OAR-2007-1145. The EPA has also developed a Web site for the proposal at the address given above. Please refer to the proposal, published in the Federal Register on August 1, 2011, (76 FR 46084) for detailed information on accessing information related to the proposal.

Dated: August 2, 2011.
Mary Henigin,
Acting Director, Office of Air Quality Planning and Standards.

[FR Doc. 2011-20029 Filed 8-5-11; 8:45 am]

BILLING CODE 6560-50-P